DEPARTMENT OF ENERGY

Federal Energy Regulatory Commission

[Project No. 1121-136]

Pacific Gas & Electric Company; Notice of Intent To Prepare an Environmental Assessment

On October 28, 2022, as supplemented on October 2, 2023, and December 1, 2023, Pacific Gas & Electric Company (PG&E or licensee) filed an application for a non-capacity amendment for the Battle Creek Hydroelectric Project No. 1121. The project is located on the mainstem Battle Creek, and on the North Fork and South Fork Battle Creek in Shasta and Tehama Counties, California. The project occupies Federal lands administered by the U.S. Forest Service and the Bureau of Land Management.

PG&E is requesting that its license for the Battle Creek Hydroelectric Project be amended to remove Inskip Diversion Dam, adjacent infrastructure, fish ladder, and approximately 30,000 to 56,000 cubic yards of sediment from behind the dam. No changes to long-term operations of the project are proposed. Inskip Diversion Dam would be removed and the inlet into Inskip Canal from Inskip Diversion Dam would be plugged. Once stored sediment is dredged and the dam is removed, the stream channel would be restored to a natural condition. A Notice of Application Accepted for Filing and Soliciting Comments, Motions to Intervene, and Protest was issued on December 29, 2022.

This notice identifies Commission staff's intention to prepare an environmental assessment (EA) for the proposed action. The planned schedule for the completion of the EA is May 2024.¹ Revisions to the schedule may be made as appropriate. The EA will be issued and made available for review by all interested parties. All comments filed on the EA will be reviewed by staff and considered in the Commission's final decision on the proceeding.

¹ 42 U.S.C. 4336a(g)(1)(B) requires lead Federal agencies to complete EAs within 1 year of the agency's decision to prepare an EA.

With this notice, the Commission is inviting Federal, State, local, and Tribal agencies with jurisdiction and/or special expertise with respect to environmental issues affected by the proposal to cooperate in the preparation of the EA planned to be issued May 2024. Agencies wishing to cooperate, or further discuss the benefits, responsibilities, and obligations of the cooperating agency role, should contact staff listed at the bottom of this notice by February 19, 2024. Cooperating agencies should note the Commission's policy that agencies that cooperate in the preparation of any environmental document cannot also intervene. See 94 FERC ¶ 61,076 (2001).

The Commission's Office of Public Participation (OPP) supports meaningful public engagement and participation in Commission proceedings. OPP can help members of the public, including landowners, environmental justice communities, Tribal members, and others to access publicly available information and navigate Commission processes. For public inquiries and assistance with making filings such as interventions, comments, or requests for rehearing, the public is encouraged to contact OPP at (202) 502-6595 or OPP@ferc.gov.

Any questions regarding this notice may be directed to Rebecca Martin at 202-502-6012 or Rebecca.martin@ferc.gov.

Dated: January 29, 2024.
Debbie-Anne A. Reese,
Acting Secretary.

[FR Doc. 2024-02103 Filed 2-1-24; 8:45 am]

BILLING CODE 6717-01-P